DEPARTMENT OF COMMERCE

International Trade Administration

[C-533-945]

Chromium Trioxide From India: Postponement of Preliminary Determination in the Countervailing Duty Investigation

AGENCY: Enforcement and Compliance, International Trade Administration, Department of Commerce.

DATES: Applicable February 13, 2026.

FOR FURTHER INFORMATION CONTACT: Dusten Hom, AD/CVD Operations, Offices I, Enforcement and Compliance, International Trade Administration, U.S. Department of Commerce, 1401 Constitution Avenue NW, Washington, DC 20230; telephone: (202) 482-5075.

SUPPLEMENTARY INFORMATION:

Background

On December 29, 2025, the U.S. Department of Commerce (Commerce) initiated a countervailing duty (CVD) investigation of imports of chromium trioxide from India.¹ Currently, the preliminary determination is due no later than March 4, 2026.

¹ See Chromium Trioxide From India: Initiation of Countervailing Duty Investigation, 91 FR 240 (January 5, 2026).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 4, 2026, the petitioner ² submitted a timely request that Commerce postpone the preliminary CVD determinations.³ The petitioners stated that a postponement is warranted to provide all parties sufficient time to develop the record of this investigation.⁴

² The petitioner is American Chrome & Chemical, Inc.

³ See Petitioner's Letter, “Request for Postponement of the Department's Countervailing Duty Preliminary Determination,” dated February 4, 2026.

⁴ Id.

In accordance with 19 CFR 351.205(e), the petitioners have timely stated the reasons for requesting a postponement of the preliminary determination, and Commerce finds no compelling reason to deny the request. Therefore, in accordance with section 703(c)(1)(A) of the Act, Commerce is postponing the deadline for the preliminary determinations to no later than 130 days after the date on which these investigations were initiated, i.e., May 8, 2026.

Pursuant to section 705(a)(1) of the Act and 19 CFR 351.210(b)(1), the deadline for the final determinations of these investigations will continue to be 75 days after the date of the preliminary determinations.

Notification to Interestered Parties

This notice is issued and published pursuant to section 703(c)(2) of the Act and 19 CFR 351.205(f)(1).

Dated: February 9, 2026.
Christopher Abbott,
Deputy Assistant Secretary for Policy and Negotiations, performing the non-exclusive functions and duties of the Assistant Secretary for Enforcement and Compliance.

[FR Doc. 2026-02876 Filed 2-12-26; 8:45 am]

BILLING CODE 3510-DS-P